DEPARTMENT OF HEALTH AND HUMAN SERVICES

Administration for Children and Families

Submission for OMB Review; Comment Request

Title: Form CB-496. “Title IV-E Programs Quarterly Financial Report”.

OMB No.: 0970-0205.

Description: This report is required to be submitted at the end of each fiscal quarter by each State or Tribe with an approved plan under title IV-E of the Social Security Act to administer the Foster Care, Adoption Assistance and Guardianship Assistance programs. In submitting this form, each State or Tribal grantee meets its statutory and regulatory requirement to report actual program expenditures made in the preceding fiscal quarter and to provide an estimate of program expenditures anticipated in the upcoming fiscal quarter. This reporting form also provides for the quarterly reporting of the average number of children assisted through each of the three programs.

The Administration for Children and Families provides Federal funding at the rate of 50 percent for all allowable administrative expenditures, with funding at higher rates for some training costs and maintenance assistance payments. The information collected on this report is used to calculate quarterly Federal grant awards issued to States and Tribes and to assist in the oversight of the financial management of these programs.

With the enactment of Public Law 110-351, the “Fostering Connections to Success and Increasing Adoptions Act of 2008” (October 7, 2008), the Guardianship Assistance program started operation in FY 2009 and Tribes, tribal organizations and consortia became eligible to submit individual title IV-E plans in FY 2010. At the time of this request for OMB review, 33 States have had their State plan amendments submitted and approved to include the Guardianship program; additional States are anticipated in the future. To date, although only a single Tribal title IV-E plan has been approved, several additional Tribal plans are in the final stages of the review process, with approval anticipated shortly.

Under Public Law 112-34, the “Child and Family Services Improvement and Innovation Act” (September 30, 2011), Section 1130 of the Social Security Act was amended to allow ACF to approve up to ten child welfare waiver demonstration projects in each of FYs 2012-2014. These projects are to continue no longer than five years and be completed no later than September 30, 2019, the end of FY 2019.

The anticipated inclusion of thirty additional State demonstration projects requires several additional data entry requirements for the reporting of demonstration project expenditures on Part 3 of Form CB-496.

The final draft version of this form was the result of comments in response to several teleconference calls with Federal and grantee staffs and a `webinar” presentation that provided detailed discussions concerning the reporting of demonstration project expenditures on Part 3. Comments were also received in response to the first Federal Register Notice (77 FR 70165 et. seq., November 23, 2012).

Respondents: State (including the District of Columbia and Puerto Rico) and Tribal title IV-E agencies administering the Foster Care, Adoption Assistance and Guardianship Assistance Programs.

Annual Burden Estimates
Instrument | Number of respondents | Number of responses per respondent | Average burden hours per response | Total burden hours
Form CB-496, “Title IV-E Programs Quarterly Financial Report” (with Part 3: “Demonstration Projects”) | 30 | 4 | 23 | 2,760
Form CB-496, “Title IV-E Programs Quarterly Financial Report” (without Part 3: “Demonstration Projects”) | 32 | 4 | 17 | 2,176
Estimated Total Annual Burden Hours |  |  |  | 4,936

Additional Information:Copies of the proposed collection may be obtained by writing to the Administration for Children and Families, Office of Planning, Research and Evaluation, 370 L'Enfant Promenade, SW., Washington, DC 20447, Attn: ACF Reports Clearance Officer. All requests should be identified by the title of the information collection. Email address: infocollection@acf.hhs.gov.

OMB Comment:OMB is required to make a decision concerning the collection of information between 30 and 60 days after publication of this document in the Federal Register. Therefore, a comment is best assured of having its full effect if OMB receives it within 30 days of publication. Written comments and recommendations for the proposed information collection should be sent directly to the following: Office of Management and Budget, Paperwork Reduction Project, Fax: 202-395-7285, Email: OIRA_SUBMISSION@OMB.EOP.GOV, Attn: Desk Officer for the Administration for Children and Families.

Robert Sargis,
Reports Clearance Officer.

[FR Doc. 2013-14371 Filed 6-17-13; 8:45 am]

BILLING CODE 4184-01-P